NUCLEAR REGULATORY COMMISSION

[Docket No. 50-184]

National Institute of Standards and Technology (NIST); Notice of Receipt and Availability of Application for Renewal of the National Institute of Standards and Technology Reactor (the NBSR) Facility Operating License No. TR-5 for an Additional 20-Year Period

The U.S. Nuclear Regulatory Commission (NRC or Commission) has received an application, dated April 9, 2004, from the National Institute of Standards and Technology (NIST), filed pursuant to Sections 104c of the Atomic Energy Act of 1954, as amended, and 10 CFR Part 50.51(a), to renew Operating License No. TR-5 for the National Institute of Standards and Technology Reactor (the NBSR). NIST requested renewal of the license to authorize operation of the facility for an additional 20-year period beyond the period specified in the current operating license. The current operating license for the NBSR (TR-5) expires on May 16, 2004. In accordance with 10 CFR 2.109(a), NIST's application for renewal was at least 30 days prior to the expiration of an existing license, and therefore the existing license will not be deemed to have expired until the application has been finally determined. The reactor is located on the NIST campus in Gaithersburg, Maryland. The acceptability of the tendered application for docketing, and other matters including an opportunity to request for a hearing, will be the subject of subsequent Federal Register notices.

Copies of the application are available for public inspection at the Commission's Public Document Room (PDR), located at One White Flint North, 11555 Rockville Pike (first floor), Rockville, Maryland, or electronically from the NRC's Agencywide Documents Access and Management System (ADAMS) Public Electronic Reading Room under accession number ML041120161. The ADAMS Public Electronic Reading Room is accessible from the NRC Web site at http://www.nrc.gov/reading-rm/adams.html. In addition, the application is available on the NRC Web page at http://www.nrc.gov/reactors/operating/licensing/renewal/applications.html, while the application is under review. Persons who do not have access to ADAMS or who encounter problems in accessing the documents located in ADAMS should contact the NRC's PDR Reference staff by telephone at 1-800-397-4209, extension 301-415-4737, or by e-mail to pdr@nrc.gov.

Dated at Rockville, Maryland, this 29th day of April 2004.
For the Nuclear Regulatory Commission.
Patrick M. Madden,
Section Chief, Research and Test Reactors Section, New, Research and Test Reactors Program, Division of Regulatory Improvement Programs, Office of Nuclear Reactor Regulation.

[FR Doc. 04-10732 Filed 5-11-04; 8:45 am]

BILLING CODE 7590-01-P